DEPARTMENT OF DEFENSE

Department of the Air Force

Notice of Intent (NOI) To Prepare An Environmental Impact Statement (EIS) for Proposed Conversion to the F-15 Aircraft for the 144th Fighter Wing, California Air National Guard At Fresno-Yosemite International Airport, Fresno, CA

AGENCY: National Guard Bureau, Asset Management Division, Plans and Requirements Branch, Air National Guard Readiness Center.

ACTION: Notice of intent.

SUMMARY: Pursuant to the National Environmental Policy Act (NEPA) of 1969, as amended (42 U.S.C. 4321, et seq.), the Council on Environmental Quality (CEQ) Regulations for Implementing the Procedural Provisions of NEPA (40 CFR parts 1500-1508), and Air Force policy and procedures (32 CFR part 989), the National Guard Bureau is issuing this notice to advise the public of its intent to prepare an EIS to evaluate the potential environmental impacts that could result from the proposed conversion to the F-15 aircraft at the 144th Fighter Wing (144 FW) installation at Fresno-Yosemite International Airport.

As a result of the Combat Air Forces fighter reduction (CAF REDUX), the 144 FW at Fresno-Yosemite International Airport in Fresno, California is proposing to convert from F-16 Falcon primary assigned aircraft (PAA) and operations to F-15 Eagle PAA and operations. 144 FW personnel would be re-trained to maintain, operate, and provide air sovereignty alert capabilities for the airspace over California and its population centers. Alternative locations at military flying installations within the State of California were considered but dimissed due to a lack of minimum airfield requirements and existing facilities that could be modified at minimal cost. F-15 flying operations at the Fresno-Yosemite International Airport would remain at similar levels to the current F-16 operations or increase slightly, depending on the alternative selected. The EIS will also evaluate the potential impacts of converting the 144 FW's 3 F-16 alert aircraft based on March Air Reserve Base (ARB) in Riverside, CA to 3 F-15 aircraft.

The EIS will evaluate two action alternatives as well as the no-action alternative. The two action alternatives analyzed will be a conversion from 18 F-16 PAA to 18 F-15 PAA; or conversion to 24 F-15 PAA. The National Guard Bureau will conduct scoping meetings to solicit public input concerning the proposal. The scoping process will help identify issues to be addressed in the environmental analysis. Comments will be accepted at any time during the environmental impact analysis process. However, to ensure the Air Force has sufficient time to consider public input in the preparation of the Draft EIS, comments should be submitted to the address below by August 19, 2011. Notices will be posted and published in the Fresno Bee and the Riverside Press Enterprise. A scoping meeting will be held in the ballroom at the Piccadilly Inn—Airport, 5115 E. McKinley Avenue, Fresno, CA, on 2 August 2011; and a second scoping meeting will be held at the TownGate Community Center, 13100 Arbor Park Lane, Moreno Valley, CA on 4 August 2011, from 6-9 p.m.

FOR FURTHER INFORMATION CONTACT: Please direct any written comments or requests for information to Robert Dogan, NGB/A7AM, at Shepperd Hall, 3501 Fetchet Avenue, Joint Base Andrews, Maryland, 20762-5157; (301) 836-8859 (phone/fax). Due to area code adjustments, this number is scheduled to change on or about 19 July 2011 to (240) 612-8859. Please use this number if the first one is not functioning.

Bao-Anh Trinh,
Air Force Federal Register Liaison Officer.

[FR Doc. 2011-17889 Filed 7-14-11; 8:45 am]

BILLING CODE 5001-10-P